DEPARTMENT OF COMMERCE

Foreign-Trade Zones Board

[B-64-2017]

Foreign-Trade Zone (FTZ) 153—San Diego, California; Notification of Proposed Production Activity; Plantronics, Inc. (Electronics/Telecommunications) San Diego, California

Plantronics, Inc. (Plantronics), submitted a notification of proposed production activity to the FTZ Board for its facility in San Diego, California. The notification conforming to the requirements of the regulations of the FTZ Board (15 CFR 400.22) was received on October 13, 2017.

Plantronics' facility is located within Site 8 of FTZ 153. The facility is used for manufacturing, assembling, programming, testing, packaging, final stage processing, warehousing, repairing, and distribution of audio communication devices.

Pursuant to 15 CFR 400.14(b), FTZ activity would be limited to the specific foreign-status materials and components and specific finished products described in the submitted notification (as described below) and subsequently authorized by the FTZ Board.

Production under FTZ procedures could exempt Plantronics from customs duty payments on the foreign-status components used in export production. On its domestic sales, for the foreign-status materials/components noted below, Plantronics would be able to choose the duty rates during customs entry procedures that apply to corded headsets, wireless headsets, telephonic apparatuses, telecommunication cables, and speakers (duty-free to 2.4%). Plantronics would be able to avoid duty on foreign-status components which become scrap/waste. Customs duties also could possibly be deferred or reduced on foreign-status production equipment.

The components and materials sourced from abroad include: Cables with connectors; microphones; plastic headbands, printed circuit boards; headset parts; speakers; printed circuit boards; lithium ion polymer batteries; power supplies; printed paperboard insert holders; bound user guides/manuals; labels with adhesive; labels non-self-adhesive; printed paperboard boxes for packaging; corrugated cardboard master shipping boxes; corrugated cardboard shipping boxes; formed plastic packaging encapsulating the product; polyurethane bags for packaging, and plastic self-adhesive tape for sealing (duty rate ranges from duty-free to 5.8%).

Public comment is invited from interested parties. Submissions shall be addressed to the Board's Executive Secretary at the address below. The closing period for their receipt is December 4, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: October 18, 2017.
Andrew McGilvray,
Executive Secretary.

[FR Doc. 2017-23025 Filed 10-23-17; 8:45 am]

BILLING CODE 3510-DS-P